DEPARTMENT OF THE INTERIOR

National Park Service

Notice of Inventory Completion for Native American Human Remains and Associated Funerary Objects in the Possession of the Phoebe A. Hearst Museum of Anthropology, University of California-Berkeley, Berkeley, CA

AGENCY: National Park Service, Interior.

ACTION: Notice.

Notice is hereby given in accordance with provisions of the Native American Graves Protection and Repatriation Act (NAGPRA), 43 CFR 10.9, of the completion of an inventory of human remains and associated funerary objects in the possession of the Phoebe A. Hearst Museum of Anthropology, University of California-Berkeley, Berkeley, CA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Phoebe A. Hearst Museum of Anthropology professional staff in consultation with representatives of the Karuk Tribe of California.

In 1939, human remains representing at least one individual (Cat. 12-5990) were recovered from site CA-Hum-NL-12, Humboldt County, CA, and were donated to the Phoebe A. Hearst Museum of Anthropology by W.E. Schenck and E.W. Gifford. No known individual was identified. No associated funerary objects are present.

Based on the condition of these human remains, this individual has been identified as Native American. Based on geographic and linguistic evidence, these human remains have been affiliated with the Karuk Tribe of California. Museum records indicate that these human remains were found near Chinach, an important Karuk ethnographic village site.

Based on the above-mentioned information, officials of the Phoebe A. Hearst Museum of Anthropology have determined that, pursuant to 43 CFR 10.2 (d)(1), the human remains listed above represent the physical remains of one individual of Native American ancestry. Officials of the Phoebe A. Hearst Museum of Anthropology also have determined that, pursuant to 43 CFR 10.2 (e), there is a relationship of shared group identity that can be reasonably traced between these Native American human remains and the Karuk Tribe of California. This notice has been sent to officials of the Karuk Tribe of California. Representatives of any other Indian tribe that believes itself to be culturally affiliated with these human remains should contact C. Richard Hitchcock, Interim NAGPRA Coordinator, Phoebe A. Hearst Museum of Anthropology, University of California, Berkeley, CA 94720, telephone (510) 643-7884, before July 5, 2001. Repatriation of the human remains to the Karuk Tribe of California may begin after that date if no additional claimants come forward.

Dated: May 11, 2001.
John Robbins,
Assistant Director, Cultural Resources Stewardship and Partnerships.

[FR Doc. 01-14071 Filed 6-4-01; 8:45 am]

BILLING CODE 4310-70-F